CENTRAL INTELLIGENCE AGENCY

Privacy Act of 1974; System of Records and Routine Uses

AGENCY: Central Intelligence Agency.

ACTION: Notice of a modified system of records.

SUMMARY: Pursuant to the Privacy Act of 1974, as amended, and Office of Management and Budget (OMB) Circular No. A-108, notice is hereby given that the Central Intelligence Agency (CIA or “the Agency”) is modifying one of its system of records notices, CIA-21, Applicant Records, to reflect the Agency's maintenance of records on prospective applicants.

DATES: In accordance with 5 U.S.C. 552a(e)(4) and (11), this system of records is effective upon publication.

FOR FURTHER INFORMATION CONTACT: Kristi Scott, Privacy and Civil Liberties Officer, Central Intelligence Agency, Washington, DC 20505, (571) 280-2700.

SUPPLEMENTARY INFORMATION: On July 22, 2005, the Agency published in the Federal Register notices for all of its Privacy Act systems of record. 70 FR 42,418. CIA included among them notice to the public of CIA system of records CIA-21, Applicant Records. CIA maintains CIA-21 to, among other purposes, ensure process integrity, enable the CIA and the Director of the CIA to carry out their lawful and authorized responsibilities, and to review an individual's qualifications for employment with the CIA. From time to time, CIA may receive, request, and/or maintain records demonstrating an individual's qualifications for employment from individuals who have not yet formally applied to the Agency. CIA refers to these individuals as “prospective applicants.” To better inform the public of CIA's maintenance of such records, CIA is modifying CIA-21 to cover both applicants and prospective applicants for employment with the CIA. Specifically, CIA is modifying the “Purpose(s),” “Categories of Individuals Covered by the System,” “Categories of Records in the System,” and “Record Source Categories” paragraphs to include prospective applicants.

In accordance with 5 U.S.C. 552a(r), the Agency has provided a report to OMB and Congress on this notice of a modified system of records.

Dated: November 3, 2022.
Kristi Lane Scott,
Privacy and Civil Liberties Officer, Central Intelligence Agency.

CIA-21

SYSTEM NAME:

Applicant Records

SECURITY CLASSIFICATION:

The classification of records in this system can range from UNCLASSIFIED to TOP SECRET.

SYSTEM LOCATION:

Central Intelligence Agency, Washington, DC 20505.

SYSTEM MANAGER(S):

Chief, Recruitment Center, Central Intelligence Agency, Washington, DC 20505.

* * * * *

CATEGORIES OF INDIVIDUALS COVERED BY THE SYSTEM:

[Delete existing paragraph and replace with the following:]

Applicants and prospective applicants for employment with the CIA.

CATEGORIES OF RECORDS IN THE SYSTEM:

[Delete existing paragraph and replace with the following:]

Records concerning the applicant or prospective applicant, including: biographic data, medical and employment history statements, educational transcripts, and personal references; and records relating to employment processing, including: interview reports, test results, correspondence, review comments, and general processing records.

* * * * *

PURPOSE(S):

[Delete existing paragraph and replace with the following:]

Records are used by CIA human resources management officials and other authorized personnel: to ensure process integrity; to enable the CIA and the Director of the CIA to carry out their lawful and authorized responsibilities; to review an applicant's or prospective applicant's qualifications; for security background investigations; for suitability determinations; for medical screening; and to determine whether employment with the CIA will be offered.

* * * * *

RECORD SOURCE CATEGORIES:

[Delete existing paragraph and replace with the following:]

CIA applicants or prospective applicants; applicant or prospective applicant references; educational institutions and private organizations; physicians and medical practitioners; CIA employees; and other federal agencies.

* * * * *

HISTORY:

70 FR 42417, July 22, 2005.

[FR Doc. 2022-24444 Filed 11-8-22; 8:45 am]

BILLING CODE 6310-02-P